ENVIRONMENTAL PROTECTION AGENCY

[FRL-7484-4]

Anniston Lead Superfund Site; Notice of Proposed Settlement

AGENCY: Environmental Protection Agency.

ACTION: Notice; request for public comment.

SUMMARY: Under the Comprehensive Environmental Response, Compensation, and Liability Act, as amended (“CERCLA”), the United States Environmental Protection Agency (“EPA”) proposes to enter into a Prospective Purchaser Agreement (“PPA”) regarding the Anniston Lead Superfund Site in Anniston, Calhoun County, Alabama. EPA proposes to enter into the PPA with Habitat for Humanity of Calhoun County, Inc. (Habitat). Pursuant to the PPA, Habitat will conduct time-critical removal actions at the properties (“Properties”) covered by the PPA under EPA oversight. The PPA provides Habitat with a covenant not to sue from the United States for Existing Contamination on the Properties and releases any Superfund liens on the Properties as well. EPA will consider comments on the proposed PPA until May 16, 2003.

EPA may withdraw from or modify the proposed PPA should such comments disclose facts or considerations which indicate the proposed PPA is inappropriate, improper, or inadequate. Copies of the proposed settlement are available from: Ms. Paula V. Batchelor, U.S. Environmental Protection Agency, Region IV, Waste Management Division, 61 Forsyth Street, SW., Atlanta, Georgia 30303, 404/562-8887.

Written comments may be submitted to Ms. Batchelor at the above address within 30 days of the date of publication.

Dated: April 3, 2003.
Archie Lee,
Chief, CERCLA Program Services Branch, Waste Management Division.

[FR Doc. 03-9349 Filed 4-15-03; 8:45 am]

BILLING CODE 6560-50-P